DEPARTMENT OF AGRICULTURE

[Docket No. FR-6271-N-04]

Final Determination: Adoption of Energy Efficiency Standards for New Construction of HUD- and USDA-Financed Housing; Extension of USDA Compliance Dates

AGENCY: Department of Agriculture.

ACTION: Notice; extension of compliance dates.

SUMMARY: On April 26, 2024, the Department of Housing and Urban Development (HUD) and the Department of Agriculture (USDA) published the “Final Determination: Adoption of Energy Efficiency Standards for New Construction of HUD- and USDA-Financed Housing” notice (Final Determination) in the Federal Register. The Final Determination provides compliance dates for HUD and USDA programs covered by the Final Determination. This notice delays compliance dates by six months over the published compliance dates for covered projects in the following USDA programs: Section 502 (Guaranteed Loans, Direct Loans) and Section 523 (Self Help Loans).

DATES: Applicable April 4, 2025.

FOR FURTHER INFORMATION CONTACT: Meghan Walsh, Rural Housing Service, Department of Agriculture, 1400 Independence Avenue SW, Room 6900-S, Washington, DC 20250; telephone number 202-205-9590 (this is not a toll-free number).

SUPPLEMENTARY INFORMATION:

I. Background

On April 26, 2024, HUD and USDA published the Final Determination (89 FR 33112) which adopted the 2021 edition of the International Energy Conservation Code (IECC) and the 2019 edition of ANSI/ASHRAE/IES Standard 90.1: Energy Standard for Buildings, Except Low-Rise Residential Buildings (ASHRAE 90.1) as the minimum energy standards for new construction of buildings in programs covered by section 109 of the Cranston-Gonzalez National Affordable Housing Act of 1990 (42 U.S.C. 12709), as amended by the Energy Independence and Security Act of 2007 (EISA) (Pub. L. 110-140) (89 FR 33112).

In Section VI of the Final Determination, the Departments provided Table 32, which lists compliance dates for the updated energy efficiency standards, also available with further guidance for programs at https://www.hudexchange.info/programs/minimum-energy-standards/.

II. Delay of Compliance Dates

USDA is delaying by six months the compliance dates for the Final Determination that have not yet passed. The compliance dates for the following programs are extended: Section 502 (Guaranteed Loans, Direct Loans) and Section 523 (Self Help Loans).

The delay will provide additional time for program participants to conform with the requirements of the Final Notice and for USDA to develop further technical assistance. See https://www.hudexchange.info/programs/minimum-energy-standards/ for more information.

The updated compliance dates for USDA programs are as follows:

Program | Initiation event | Updated compliance date
USDA Section 502 Guaranteed Housing Loans | Building Permit Application | 24 months after effective date: May 28, 2026.
USDA Section 502 Direct | Application Selected for Processing | 24 months after effective date: May 28, 2026.
USDA Section 523 Mutual Self Help Loans | Application Selected for Processing | 24 months after effective date: May 28, 2026.
All programs, persistent poverty rural areas | Based on program-specific event, above | 24 months after effective date: May 28, 2026.

III. Findings and Certifications

Environmental Impact

This notice provides updated compliance deadlines for the Final Determination. A Finding of No Significant Impact was prepared on the preliminary determination that preceded the Final Determination and remained applicable to the Final Determination. Accordingly, under 24 CFR 50.19(c)(4) this notice is categorically excluded from environmental review under the National Environmental Policy Act of 1969 (42 U.S.C. 4321).

Jacqueline Ponti-Lazaruk,
Acting Deputy Under Secretary, Rural Development, U.S. Department of Agriculture.

[FR Doc. 2025-05864 Filed 4-3-25; 8:45 am]

BILLING CODE 3410-XV-P